DEPARTMENT OF ENERGY

Federal Energy Regulatory Commission

[Docket No. RP04-357-000]

Florida Gas Transmission Company; Notice of Proposed Changes in FERC Gas Tariff

July 8, 2004.

Take notice that on June 30, 2004, Florida Gas Transmission Company (FGT) tendered for filing to become part of its FERC Gas Tariff, Third Revised Volume No. 1, the following tariff sheets, with an effective date of August 1, 2004:

Sixty-Fifth Revised Sheet No. 8A

Fifty-Seventh Revised Sheet No. 8A.01

Fifty-Seventh Revised Sheet No. 8A.02

Seventeenth Revised Sheet No. 8A.04

Sixtieth Revised Sheet No. 8B, and

Fifty-Third Revised Sheet No. 8B.01

FGT states that it is filing the referenced tariff sheets pursuant to the Gas Research Institute's (GRI) Settlement Agreement dated March 10, 1998, approved by the Commission's Order issued April 29, 1998, in Docket No. RP97-149-003; and the 2002-2006 Five-Year Plan as approved by the Commission Order issued September 19, 2001, in Docket No. RP01-434. FGT also states that it received a letter dated May 25, 2004, from GRI advising FGT to discontinue collecting the GRI surcharges effective August 1, 2004. In the instant tariff sheets, FGT states that it has reduced the current GRI demand and commodity surcharges to $0.0000 to be effective August 1, 2004.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-1544 Filed 7-13-04; 8:45 am]

BILLING CODE 6717-01-P